Title 3—

The President

Proclamation 9062 of November 26, 2013

Minority Enterprise Development Week, 2013

By the President of the United States of America

A Proclamation

This August, as we marked the 50th anniversary of the March on Washington, we were reminded that the measure of America's progress is not whether the doors of opportunity are cracked a little wider for a few, but whether our economic system provides a fair shot for the many. Minority-owned businesses play a crucial part in driving this progress—not only when their founders pursue their fullest measure of success, but also when they offer employees of all backgrounds a chance to enter the ranks of the American middle class. During Minority Enterprise Development Week, we recognize the strength of our diverse workforce and the many ways minority entrepreneurs contribute to our economy, our society, and our Nation's fundamental promise.

America's minority enterprises include everything from Main Street cornerstones that sustain communities to global firms that drive innovation in the industries of tomorrow. Together, these businesses employ almost 6 million Americans and contribute 1 trillion dollars to our economy every year. Minority entrepreneurs bring unique perspectives to every corner of our country, and their understanding of diverse cultures often gives them an advantage in the international marketplace.

As our economy continues to recover, our investments in minority owned and operated firms will help create jobs, strengthen families, and build ladders of opportunity in underserved communities. Over the past 5 years, my Administration has worked to empower minority entrepreneurs by connecting them with billions of dollars in contracts and access to capital. And to better serve America's business community, we launched www.Business.USA.gov, where any firm can seek out financing opportunities, navigate Federal bureaucracy, and cut through red tape.

This week, we celebrate America's minority enterprises, renew our commitment to helping them grow, and look with pride toward the promise of the future.

NOW, THEREFORE, I, BARACK OBAMA, President of the United States of America, by virtue of the authority vested in me by the Constitution and the laws of the United States, do hereby proclaim December 1 through December 7, 2013, as Minority Enterprise Development Week. I call upon all Americans to celebrate this week with appropriate programs, ceremonies, and activities to recognize the many contributions of our Nation's minority enterprises.

IN WITNESS WHEREOF, I have hereunto set my hand this twenty-sixth day of November, in the year of our Lord two thousand thirteen, and of the Independence of the United States of America the two hundred and thirty-eighth.

[FR Doc. 2013-28992

Filed 11-29-13; 11:15 am]

Billing code 3295-F4